DEPARTMENT OF TRANSPORTATION

Federal Aviation Administration

14 CFR Part 39

[Docket No. FAA-2013-0929; Directorate Identifier 2013-CE-031-AD; Amendment 39-17968; AD 2013-22-14 R1]

RIN 2120-AA64

Airworthiness Directives; DG Flugzeugbau GmbH Gliders

AGENCY: Federal Aviation Administration (FAA), Department of Transportation (DOT).

ACTION: Final rule.

SUMMARY: We are revising an airworthiness directive (AD) 2013-22-14 for any DG Flugzeugbau GmbH Model DG-1000T glider equipped with a Solo Kleinmotoren Model 2350 C engine. This AD results from mandatory continuing airworthiness information (MCAI) issued by an aviation authority of another country to identify and correct an unsafe condition on an aviation product. The MCAI describes the unsafe condition as engine shaft failure and consequent propeller detachment. We are issuing this AD to require actions to address the unsafe condition on these products.

DATES: This AD is effective October 20, 2014.

The Director of the Federal Register approved the incorporation by reference of a certain publication listed in the AD as of October 20, 2014.

ADDRESSES: You may examine the AD docket on the Internet at http://www.regulations.gov by searching for and locating Docket No. FAA-2013-0929; or in person at the Docket Management Facility, U.S. Department of Transportation, Docket Operations, M-30, West Building Ground Floor, Room W12-140, 1200 New Jersey Avenue SE., Washington, DC 20590.

For service information identified in this AD, contact Solo Kleinmotoren GmbH, Postfach 60 01 52, D 71050 Sindelfingen, Germany; telephone: +49 07031-301-0; fax: +49 07031-301-136; email: aircraft@solo-germany.com; Internet: http://aircraft.solo-online.com/. You may view this referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to add an AD that would apply to DG Flugzeugbau GmbH Model DG-1000T airplanes. The NPRM was published in the Federal Register on June 27, 2014 (79 FR 36440), and proposed to revise AD 2013-22-14, Amendment 39-17646 (78 FR 65869, November 4, 2013) (“AD 2013-22-14”).

Since we issued AD 2013-22-14, the manufacturer of the Solo Kleinmotoren Model 2350 C engine has developed an engine modification to restore engine operation.

The European Aviation Safety Agency (EASA), which is the Technical Agent for the Member States of the European Community, has issued AD No.: 2013-0217R1, dated May 5, 2014 (referred to after this as “the MCAI”), to correct an unsafe condition for the specified products. The MCAI states:

An occurrence of Solo 2350 C engine shaft failure and consequent propeller detachment was reported. The preliminary investigation revealed that the failed shaft was earlier modified in accordance with an approved method.

This condition, if not corrected, could lead to additional cases of release of the propeller from the engine, possibly resulting in damage to the sailplane, or injury to persons on the ground.

To address this potential unsafe condition, EASA issued Emergency AD 2013-0217-E to prohibit operation of the engine.

Since that AD was issued, Solo Kleinmotoren GmbH developed a modification consisting of installing an improved eccenter axle—pulley assembly, allowing to resume operation of the engine.

For the reason described above, this AD is revised to incorporate the optional modification, cancelling the operational restriction.

The MCAI can be found in the AD docket on the Internet at: http://www.regulations.gov/#!documentDetail;D=FAA-2013-0929-0003.

Comments

We gave the public the opportunity to participate in developing this AD. We received no comments on the NPRM (79 FR 36440, June 27, 2014) or on the determination of the cost to the public.

Conclusion

We reviewed the relevant data and determined that air safety and the public interest require adopting the AD as proposed except for minor editorial changes. We have determined that these minor changes:

• Are consistent with the intent that was proposed in the NPRM (79 FR 36440, June 27, 2014) for correcting the unsafe condition; and

• Do not add any additional burden upon the public than was already proposed in the NPRM (79 FR 36440, June 27, 2014).

Costs of Compliance

We estimate that this AD will affect 2 products of U.S. registry. We also estimate that it will take about .5 work-hour per product to comply with the retained requirement of placing a copy of AD 2013-22-14 into the Limitations section of the aircraft flight manual, which prohibits engine operation. The average labor rate is $85 per work-hour.

Based on these figures, we estimate the cost of this retained requirement on U.S. operators to be $85, or $42.50 per product.

In addition, we estimate that the optional engine modification will take about 1.5 work-hours and require parts costing $100, for a cost of $227.50. If both products of U.S. registry incorporated the engine modification, the cost of the modification on U.S. operators will be $455.

If the engine modification is done, it will also take about .5 work-hour per product to remove the engine operation restriction (copy of AD 2013-22-14) from the Limitations section of the aircraft flight manual. The average labor rate is $85 per work-hour, for a cost of $42.50 per product.

According to the manufacturer, some of the costs of this AD may be covered under warranty, thereby reducing the cost impact on affected individuals. We do not control warranty coverage for affected individuals.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2013-0929; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17646 (78 FR 65869, November 4, 2013), and adding the following new AD:

2013-22-14 R1 DG Flugzeugbau GmbH: Amendment 39-17968; Docket No. FAA-2013-0929; Directorate Identifier 2013-CE-031-AD.

(a) Effective Date

This airworthiness directive (AD) becomes effective October 20, 2014.

(b) Affected ADs

This AD revises AD 2013-22-14, Amendment 39-17646 (78 FR 65869, November 4, 2013) (“AD 2013-22-14”).

(c) Applicability

This AD applies to DG Flugzeugbau GmbH Model DG-1000T gliders, all serial numbers, that are:

(1) Equipped with a Solo Kleinmotoren Model 2350 C engine; and

(2) certificated in any category.

(d) Subject

Air Transport Association of America (ATA) Code 72: Engine.

(e) Reason

This AD was prompted by mandatory continuing airworthiness information (MCAI) originated by an aviation authority of another country to identify and correct an unsafe condition on an aviation product. The MCAI describes the unsafe condition as engine shaft failure and consequent propeller detachment. We are issuing this AD to prevent engine shaft failure and propeller detachment, which could result in damage to the glider and injury to persons on the ground.

(f) Actions and Compliance

Unless already done, do the following actions in paragraphs (f)(1) through (f)(4) of this AD.

(1) As of November 25, 2013 (the effective date retained from AD 2013-22-14), do not operate the engine unless the engine is modified following instructions that are approved by the FAA specifically for AD 2013-22-14. Contact the FAA office identified in paragraph (g)(1) of this AD to get more information about obtaining such instructions.

(2) As of November 25, 2013 (the effective date retained from AD 2013-22-14), place a copy of AD 2013-22-14 or this AD into the Limitations section of the aircraft flight manual (AFM).

(3) To remove the prohibited engine operation requirement in paragraph (f)(1) of this AD, modify the engine as specified in the Actions paragraph of Solo Kleinmotoren GmbH Technische Mitteilung Service Bulletin Nr. 4603-14, dated April 28, 2014, unless already modified with FAA-approved instructions as specified in paragraph (f)(1) of this AD.

Note 1 to paragraph (f)(3) of this AD: This service information contains German to English translation. The European Aviation Safety Agency (EASA) used the English translation in referencing the document. For enforceability purposes, we will refer to the Solo Kleinmotoren GmbH service information as the title appears on the document.

(4) Prior to further flight after modifying the engine as specified in paragraph (f)(1) or paragraph (f)(3) of this AD, remove the engine operation restriction (copy of AD 2013-22-14) from the Limitations section of the AFM.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI EASA AD No.: 2013-0217R1, dated May 5, 2014, for related information. You may examine the MCAI in the AD docket on the Internet at: http://www.regulations.gov/#!documentDetail;D=FAA-2013-0929-0003.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Solo Kleinmotoren GmbH Technische Mitteilung Service Bulletin Nr. 4603-14, dated April 28, 2014.

(ii) Reserved.

(3) For Solo Kleinmotoren GmbH service information identified in this AD, contact Solo Kleinmotoren GmbH, Postfach 60 01 52, D 71050 Sindelfingen, Germany; telephone: +49 07031-301-0; fax: +49 07031-301-136; email: aircraft@solo-germany.com; Internet: http://aircraft.solo-online.com.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on September 5, 2014.
Earl Lawrence,
Manager, Small Airplane Directorate, Aircraft Certification Service.

[FR Doc. 2014-21761 Filed 9-12-14; 8:45 am]

BILLING CODE 4910-13-P